DEPARTMENT OF ENERGY

Federal Energy Regulatory Commission

[Docket No. CP00-380-000]

Columbia Gas Transmission Corporation; Notice of Request Under Blanket Authorization

June 15, 2000.

Take notice that on June 7, 2000, Columbia Gas Transmission Corporation (Columbia), 12801 Fair Lakes Parkway, Fairfax, Virginia 22030-0146, filed in Docket No. CP00-380-000, a request pursuant to sections 157.205 and 157.208 (18 CFR 157.205 and 157.208) of the Commission's Regulations under the Natural Gas Act, and Columbia's authorization in Docket No. CP83-76-000, 22 FERC Paragraph 62,029 (1983) to increase the maximum allowable operating pressure (MAOP) of its existing delivery lateral pipeline designated as K-212 located in Ohio. Columbia states the uprate is necessary in order to provide volumes of natural gas and the pressure requested by Southeastern Natural Gas Company, who will use the gas to serve Shelly Asphalt Plant located in Licking County, Ohio. The application may be viewed on the web at www.ferc.fed.us/online/rims.htm. Call (202) 208-2222 for assistance.

Any person or the Commission's Staff may, within 45 days after the issuance of the instant notice by Commission, file pursuant to Rule 214 of the Commission's Procedural Rules (18 CFR 385.214) a motion to intervene or notice of intervention and, pursuant to section 157.205 of the regulations under the Natural Gas Act (18 CFR 157.205), a protest to the request. If no protest is filed within the time allowed, the proposed activity shall be deemed to be authorized effective the day after the time allowed for filing a protest. If a protest is filed and not withdrawn within 30 days after the time allowed for filing a protest, the instant request shall be treated as an application for authorization pursuant to section 7 of the Natural Gas Act.

Linwood A. Watson, Jr.,
Acting Secretary.

[FR Doc. 00-15569 Filed 6-20-00; 8:45 am]

BILLING CODE 6717-01-M